DEPARTMENT OF ENERGY

Federal Energy Regulatory Commission

Sunshine Act Meeting Notice

May 14, 2009.

The following notice of meeting is published pursuant to section 3(a) of the government in the Sunshine Act (Pub. L. No. 94-409), 5 U.S.C. 552b:

Agency Holding Meeting: Federal Energy Regulatory Commission.

Date and Time: May 21, 2009, 10 a.m.

Place: Room 2C, 888 First Street, NE., Washington, DC 20426.

Status: Open.

Matters to be Considered: Agenda.

Note: Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on-line at the Commission's Web site at http://www.ferc.gov using the eLibrary link, or may be examined in the Commission's Public Reference Room.

948TH—Meeting

Regular Meeting May 21, 2009. 10 a.m.

Item No. | Docket No. | Company
Administrative
A-1 | AD02-1-000 | Agency Administrative Matters.
A-2 | AD02-7-000 | Customer Matters, Reliability, Security and Market Operations.
A-3 | AD06-3-000 | Energy Market Update.
Electric
E-1 | OA08-21-001 | Maine Public Service Company.
E-2 | OA08-32-002 | PJM Interconnection, L.L.C.
E-3 | OA08-35-002 | Xcel Energy Services, Inc.—Southwestern Public Service Company.
E-4 | OA08-41-001 | MidAmerican Energy Company.
E-5 | OA08-53-001 | Midwest Independent Transmission System Operator, Inc.
| OA08-42-001 | Midwest Independent Transmission System Operator, Inc. and American Transmission Company, LLC.
E-6 | OA08-58-002 | ISO New England Inc.
E-7 | OA08-61-001 | Southwest Power Pool, Inc.
E-8 | OA08-62-002, OA08-62-003, >OA08-62-004 | California Independent System Operator Corporation.
E-9 | NJ08-3-001 | Southwestern Power Administration.
E-10 | EC09-32-000 | Exelon Corporation.
E-11 | OMITTED
E-12 | RM04-7-006 | Market-Based Rates For Wholesale Sales of Electric Energy, Capacity and Ancillary Services by Public Utilities.
E-13 | RM08-13-000 | Transmission Relay Loadability Reliability Standard.
E-14 | RM08-12-000 | Western Electricity Coordinating Council Regional Reliability Standard Regarding Automatic Time Error Correction.
E-15 | OMITTED
E-16 | RM07-21-002 | Blanket Authorization Under FPA Section 203.
E-17 | RM08-16-000 | Electric Reliability Organization Interpretations of Specific Requirements of Frequency Response and Bias and Voltage and Reactive Control Reliability Standards.
E-18 | AD09-7-000 | Material Changes in Facts Underlying Waiver of Order No. 889 Part 358 of the Commission's Regulations.
E-19 | OA08-116-000 | Wolverine Power Supply Cooperative, Inc.
E-20 | ER09-864-000 | ISO New England Inc. and New England Power Pool Participants Committee.
E-21 | ER09-241-001 | California Independent System Operator Corporation.
E-22 | ER01-2636-005 | ALLETE, Inc.
E-23 | OMITTED
E-24 | EL09-21-000 | PacifiCorp.
E-25 | EL00-95-000 | San Diego Gas & Electric Company v. Sellers of Energy and Ancillary Services into Markets Operated by the California Independent System Operator Corporation and the California Power Exchange Corporation.
| EL00-98-000 | Investigation of Practices of the California Independent System Operator Corporation and the California Power Exchange Corporation.
E-26 | EL02-18-002 | NEO California Power LLC.
| EL00-95-223 | San Diego Gas & Electric Company v. Sellers of Energy and Ancillary Services into Markets Operated by the California Independent System Operator Corporation and the California Power Exchange Corporation.
| EL00-98-208 | Investigation of Practices of the California Independent System Operator Corporation and the California Power Exchange Corporation.
E-27 | ER08-1317-001 | California Independent System Operator Corporation.
E-28 | ER08-140-001 | California Independent System Operator Corporation.
E-29 | OMITTED
E-30 | ER08-1281-002 | New York Independent System Operator, Inc.
E-31 | OMITTED
E-32 | ER02-2001-011 | Electric Quarterly Reports.
| ER06-250-000 | Knedergy, LLC.
| ER05-294-000 | Westbank Energy Capital, LLC.
E-33 | EL09-20-000 | Northeast Utilities Service Company and NSTAR Electric Company.
Gas
G-1 | RP08-295-001 | Columbia Gas Transmission Company.
G-2 | RP09-282-002, >RP09-282-001 | Tennessee Gas Pipeline Company.
G-3 | RP07-504-000, RP07-504-001, RP07-504-002 | Algonquin Gas Transmission, LLC.
Hydro
H-1 | EL06-91-002, P-12252-029, P-12252-030 | Albany Engineering Corporation v. Hudson River-Black River Regulating District. Hudson River-Black River Regulating District.
H-2 | P-13282-001 | Renaissance Ketchikan Group, LLC.
H-3 | P-2145-092 | Public Utility District No. 1 of Chelan County, Washington.
Certificates
C-1 | OMITTED
C-2 | CP08-463-000 | CenterPoint Energy Gas Transmission Company.
C-3 | OMITTED
C-4 | OMITTED
C-5 | CP09-25-000 | New Mexico Gas Company, Inc. and Public Service Company of New Mexico.
C-6 | CP09-34-001 | ConocoPhillips Alaska Natural Gas Corporation and Marathon Oil Company.
C-7 | CP08-6-001 | Midcontinent Express Pipeline LLC.
| CP08-9-001 | Enogex Inc.
C-8 | CP08-441-001 | CenterPoint Energy Gas Transmission Company.
| CP08-444-001 | Texas Eastern Transmission, LP.
C-9 | CP08-100-001 | Texas Eastern Transmission, LP.

Kimberly D. Bose,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-11694 Filed 5-15-09; 11:15 am]

BILLING CODE 6717-01-P